POSTAL REGULATORY COMMISSION

[Docket No. CP2009-43; Order No. 1410]

Negotiated Service Agreement Amendment

AGENCY: Postal Regulatory Commission.

ACTION: Notice.

SUMMARY: The Commission is noticing a recently-filed Postal Service request concerning a change in the termination date of Express Mail & Priority Mail Contract 7. This notice addresses procedural steps associated with the filing.

DATES: Comments are due: July 27, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION:

Table of Contents

I. Introduction

II. Notice of Filings

III. Ordering Paragraphs

I. Introduction

On July 19, 2012, the Postal Service filed notice that it has agreed to an amendment to the existing Express Mail & Priority Mail Contract 7 subject to this docket.¹ The Postal Service includes three attachments in support of its Notice:

¹ Notice of United States Postal Service of Change in Termination Date Pursuant to Amendment to Express Mail & Priority Mail Contract 7, July 19, 2012 (Notice).

• Attachment A—a redacted copy of the amendment to the existing Express Mail & Priority Mail Contract 7;

• Attachment B—a certified statement required by 39 CFR 3015.5(c)(2); and

• Attachment C—an application for non-public treatment of materials to maintain redacted portions of the contract amendment and related financial information under seal.

The amendment extends the contract's termination date to the effective date of the Postal Service's annual change in prices of general applicability for Priority Mail and Express Mail scheduled for January 2013. Id. Attachment A at 2. The Postal Service intends for the amendment to become effective on the date that the Commission completes its review of the Notice. Id.

The Postal Service filed much of the supporting materials, including the related contract, under seal. Id. Attachment C. It maintains that the redacted portions of the contract amendment, customer-identifying information, and related financial information, should remain confidential. Id. at 3. This information includes the price structure, underlying costs and assumptions, pricing formulas, information relevant to the customer's mailing profile, and cost coverage projections. Id. The Postal Service asks the Commission to protect customer-identifying information from public disclosure indefinitely. Id. at 7.

II. Notice of Filings

Interested persons may submit comments on whether the changes presented in the Postal Service's Notice are consistent with the policies of 39 U.S.C. 3632, 3633, or 3642, 39 CFR 3015.5, and 39 CFR part 3020, subpart B. Comments are due no later than July 27, 2012. The public portions of these filings can be accessed via the Commission's Web site (http://www.prc.gov).

The Commission appoints Katalin K. Clendenin to serve as Public Representative in this docket.

III. Ordering Paragraphs

It is ordered:

1. The Commission shall review the Notice of United States Postal Service of Change in Termination Date Pursuant to Amendment to Express Mail & Priority Mail Contract 7, filed on July 19, 2012 in Docket No. CP2009-43.

2. Pursuant to 39 U.S.C. 505, Katalin K. Clendenin is appointed to serve as an officer of the Commission (Public Representative) to represent the interests of the general public in this proceeding.

3. Comments by interested persons in these proceedings are due no later than July 27, 2012.

4. The Secretary shall arrange for publication of this order in the Federal Register.

By the Commission.
Shoshana M. Grove,
Secretary.

[FR Doc. 2012-18240 Filed 7-25-12; 8:45 am]

BILLING CODE 7710-FW-P